DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 25, 2020.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on February 28, 2020.
Donald P. Burger,
Chief, General Approvals and Permits Branch.

Special Permits Data
Application No. | Applicant | Regulation(s) Affected | Nature of the Special Permits thereof
7607-M | Thermo Fisher Scientific Inc | 172.101(j), 173.306 | To modify the special permit to clarify the manufacturing markings. (mode 5)
10922-M | Fiba Technologies, Inc | 173.302(a), 180.205, 180.207(d)(1), 172.302(c) | To modify the special permit to authorize an additional outside diameter tube for a reference standard and its associated range of cylinder diameters that can be retested by UE. (modes 1, 2, 3, 4, 5)
14951-M | Hexagon Lincoln, LLC | 173.301(f), 173.302(a) | To modify the special permit to authorize permitted cylinders to have an “in-service date” on their labels. This date would be the date in which the cylinder was released from the Hexagon inventory and placed in the possession of the end user. (modes 1, 2, 3)
15347-M | Raytheon Missile Systems Co | 173.301, 173.302a | To modify the special permit to authorize passenger carrying aircraft as a mode of transportation. (modes 1 ,2, 3, 4, 5)
15848-M | Ambri Inc | 173.222(c)(1) | To modify the special permit to clarify certain batteries, cells and power systems and the marking requirements for them and to authorize party status to the special permit. (modes 1, 2, 3)
16413-M | Amazon.com, Inc | 172.301(c), 173.185(c)(1)(iii), 173.185(c)(3)(i), 173.159a(c)(1), 173.159a(c)(2), 173.185(c)(1)(iv) | To modify the special permit to authorize an additional hazmat and packaging for it and to authorize the use of QR codes to link to the latest version of the authorizing permit. (modes 1, 2)
16504-M | Idrink Products Inc | 171.2(k), 172.200, 172.202(a)(5)(iii)(B), 172.300, 172.500, 172.400, 172.700(a) | To modify the special permit to bring it in line with other permits authorizing the transportation in commerce of certain used DOT Specification 3AL cylinders and containers that contain carbon dioxide, but not necessarily in an amount qualifying as hazardous material. (modes 1, 2)
16560-M | Lightstore, Inc | 173.302(a) | To modify the special permit to authorize additional 2.1 and 2.2 hazmat and to authorize an increase in the allowable maximum working pressure of certain cylinders. (modes 1, 2, 3)
20324-M | General Dynamics Mission Systems, Inc | 172.101(j), 173.185(a)(1)(i) | To modify the special permit to authorize the transportation in commerce of slightly modified designs of approved batteries and cells. (mode 4)
20418-M | Cimarron Composites, LLC | 173.302(a) | To modify the special permit to authorize an additional hazardous material. (modes 1, 2, 3)
20474-M | Space Exploration Technologies Corp | 172.300, 172.400, 173.1 | To modify the special permit to authorize an increase in tank pressure for certain propellant tanks. (modes 1, 3)
20571-M | Catalina Cylinders, Inc | 173.302a, 178.71(l)(1)(i), 178.71(l)(1)(ii) | To modify the special permit to authorize an increase in the maximum service pressure and water volume. (modes 1, 2, 3, 4)
20576-M | Cylinder Testing Solutions LLC | 172.203(a), 172.301(c), 180.205 | To modify the special permit to authorize specific additional procedures for the testing of 3AL cylinders with labels under the clearcoat so they can continue to be tested using ultrasound, to add specific minimum wall specifications for testing 3AL cylinders and to update the update the authorized facilities under the SP. (modes 1, 2)
20834-M | Ecc Corrosion Inc | 107.503(b), 107.503(c), 173.241, 173.242, 173.243, 178.345-1(d), 178.345-1(f), 178.345-2, 178.345-3, 178.345-4, 178.345-7, 180.405, 180.413 | To modify the special permit to authorize a redesign of the cargo tanks, to clarify the tank capacity and to modify the safety factor. (mode 1)
20861-M | Ayalytical Instruments Inc | 173.120(c) | To modify the special permit to authorize an additional ASTM Standard Test Method D6450. (modes 1, 2, 3, 4, 5)
20902-M | Eastern Upper Peninsula Transportation Authority | 176.164(e) | To modify the special permit to authorize additional hazmat. (mode 3)
20907-M | Versum Materials, Inc | 171.23(a), 171.23(a)(3) | To modify the special permit to remove the requirement for a dedicated fleet for delivery and allow 3rd party vendors to make deliveries. (modes 1, 3)
20948-M | Kocsis Technologies, Inc | 173.302(a) | To modify the special permit to remove references to specific drawings. (modes 1, 2, 3, 4)

[FR Doc. 2020-04819 Filed 3-9-20; 8:45 am]

BILLING CODE 4909-60-P